DEPARTMENT OF TRANSPORTATION

Federal Aviation Administration

Agency Information Collection Activities: Requests for Comments; Clearance of Renewed Approval of Information Collection: Safe Disposition of Life-Limited Aircraft Parts

AGENCY: Federal Aviation Administration (FAA), DOT.

ACTION: Notice and request for comments.

SUMMARY: In accordance with the Paperwork Reduction Act of 1995, FAA invites public comments about our intention to request the Office of Management and Budget (OMB) approval to renew an information collection. This collection involves response to the Wendall H. Ford Investment and Reform Act for the 21st Century which requires that all persons who remove any life-limited aircraft part have a method to prevent the installation of that part after it has reached its life limit.

DATES: Written comments should be submitted by August 26, 2013.

FOR FURTHER INFORMATION CONTACT: Kathy DePaepe at (405) 954-9362, or by email at: Kathy.A.DePaepe@faa.gov.

SUPPLEMENTARY INFORMATION:

OMB Control Number: 2120-0665.

Title: Safe Disposition of Life-Limited Aircraft Parts.

Form Numbers: There are no FAA forms associated with this collection of information.

Type of Review: Renewal of an information collection.

Background: 14 CFR Part 43 requires a record keeping system to be maintained that will aid aircraft operators in determining the status of the life-limited parts from inadvertently being installed that have reached their life limit. This action reduces the risk of life-limited parts being used beyond their life limits. This action also requires that manufacturers of life-limited parts provide marking instructions, when requested.

Respondents: Approximately 8,000 air carriers, repair stations, and mechanics.

Frequency: Information is collected on occasion.

Estimated Average Burden per Response: 15 minutes.

Estimated Total Annual Burden: 104,000 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on June 20, 2013.
Albert R. Spence,
FAA Assistant Information Collection Clearance Officer, IT Enterprises Business Services Division, AES-200.

[FR Doc. 2013-15315 Filed 6-25-13; 8:45 am]

BILLING CODE 4910-13-P